DEPARTMENT OF VETERANS AFFAIRS

Advisory Committee on Minority Veterans, Notice of Meeting

The Department of Veterans Affairs (VA), in accordance with Public Law 103-446, gives notice that a meeting of the Advisory Committee on Minority Veterans will be held from Monday, April 17, 2000 to Wednesday, April 19, 2000, in Washington, DC. The purpose of the Advisory Committee on Minority Veterans is to advise the Secretary of Veterans Affairs on the administration of VA benefits and services to minority veterans; to assess the needs of minority veterans and to evaluate whether VA compensation, medical and rehabilitation services, outreach, and other programs are meeting those needs. The Committee will make recommendations to the Secretary regarding such activities.

The meeting will convene in room 230, VA Central Office (VACO) Building, 810 Vermont Avenue, NW, Washington, DC, from 8:30 A.M. to 5:00 P.M. On April 17, the Committee will focus on such health care issues as HIV/AIDS, Hepatitis C, Post Traumatic Stress Disorder, and medical research. On Tuesday, April 18, the Committee will concentrate its efforts on veterans' employment and training issues, the cardiac care program evaluation, and the Veterans' Benefits Administration's Road Map to Excellence. The Committee will work in Subcommittees in the afternoon session. On Wednesday, April 19, the Committee will examine several diversity training programs and will begin drafting its annual report for Fiscal Year 2000. These sessions will be open to the public. It will be necessary for those wishing to attend the meeting to contact Mr. Anthony T. Hawkins, Department of Veterans Affairs, at (202) 273-6708, before April 16, 2000. No time will be allocated for receiving oral presentations from the public. However, the Committee will accept written comments from interested parties on issues affecting minority veterans. Such comments should be referred to the Committee at the following address: Advisory Committee on Minority Veterans, Center for Minority Veterans (00M), U.S. Department of Veterans Affairs, 810 Vermont Avenue, NW, Washington, DC 20420.

Dated: March 24, 2000.
By Direction of the Secretary.
Marvin R. Eason,
Committee Management Officer.

[FR Doc. 00-8071 Filed 3-31-00; 8:45 am]

BILLING CODE 8320-01-M